DEPARTMENT OF JUSTICE

Notice of Lodging of Proposed Modification to Consent Decree Under The Comprehensive Environmental Response, Compensation, and Liability Act

On November 25, 2020, the Department of Justice lodged a proposed consent decree modification (“Modification”) with the United States District Court for the Eastern District of Michigan in the lawsuit entitled United States v. BASF Corp., et al., Civil Action No. 92-40071.

The original consent decree required the defendants in the case to perform cleanup work at the Rasmussen Dump Superfund Site in Brighton, Michigan. The defendants have performed most of the necessary work and are continuing to perform operation and maintenance. The proposed Modification adjusts the financial assurance provisions of the consent decree. As originally approved by the Court, defendants were required to maintain $10 million in financial assurance. Because most of the necessary work has been done, the Parties have agreed to reduce the financial assurance amount to $700,000 and change the financial assurance language to track that used in similar current consent decrees. The Modification makes no other changes to the consent decree.

The publication of this notice opens a period for public comment on the Modification. Comments should be addressed to the Assistant Attorney General, Environment and Natural Resources Division, and should refer to United States v. BASF Corp., D.J. Ref. No. 90-11-3-281/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Modification may be examined and downloaded at this Justice Department website: https://www.justice.gov/enrd/consent-decrees. We will provide a paper copy of the Modification upon written request and payment of reproduction costs. Please mail your request and payment to: Consent Decree Library, U.S. DOJ—ENRD, P.O. Box 7611, Washington, DC 20044-7611.

Please enclose a check or money order for $5 (25 cents per page reproduction cost) payable to the United States Treasury.

Henry S. Friedman,
Assistant Section Chief, Environmental Enforcement Section, Environment and Natural Resources Division.

[FR Doc. 2020-26545 Filed 12-1-20; 8:45 am]

BILLING CODE 4410-15-P